DEPARTMENT OF TRANSPORTATION

Federal Motor Carrier Safety Administration

[Docket No. FMCSA-2007-28416]

Agency Information Collection Activities; Revision of an Approved Information Collection: Training Certification for Drivers of Longer Combination Vehicles

AGENCY: Federal Motor Carrier Safety Administration (FMCSA), DOT.

ACTION: Notice; request for information.

SUMMARY: In accordance with the Paperwork Reduction Act of 1995, FMCSA announces its plan to submit the Information Collection Request (ICR) described below to the Office of Management and Budget (OMB) for review and approval. The ICR is titled, “Training Certification for Drivers of Longer Combination Vehicles (LCVs).” This ICR is necessary because the training certificate serves as proof that a driver has successfully completed the training required before he or she may operate an LCV on the Nation's highways. The hiring motor carrier is required to maintain a copy of the training certificate in the LCV driver's qualification file. The document is subject to review by Federal or State enforcement officials. On June 28, 2007, FMCSA published a Federal Register notice allowing for a 60-day comment period on the ICR. One comment was received.

DATES: Please send your comments by October 26, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Robert F. Schultz, Jr., Transportation Specialist, FMCSA, Telephone: 202-366-2718; e-mail: buz.schultz@dot.gov.

SUPPLEMENTARY INFORMATION: Title: Training Certification for Drivers of Longer Combination Vehicles.

OMB Control Number: 2126-0026.

Type of Request: Revision of a currently-approved information collection.

Respondents: Drivers who have completed the required LCV training and driver instructors responsible for conducting the required LCV training.

Estimated Number of Respondents: 1,200 drivers who complete the required LCV training each year; 6 driver instructors who must document their qualifications to train new LCV drivers.

Estimated Time per Response: 10 minutes for LCV drivers; 10 to 15 minutes for various LCV instructors.

Expiration Date: September 30, 2007.

Frequency of Response: Annual.

Estimated Total Annual Burden: 203 hours. The FMCSA estimates that 10 minutes would be needed for newly certified LCV drivers to fulfill the information collection requirement, resulting in an annual information collection burden of 200 hours [1,200 LCV drivers × 10 minutes/60 minutes = 200 hours]. The estimated annual burden associated with instructor certification would be 3 burden hours [(2 classroom instructors × 10 minutes = 20 minutes) + (4 skills instructors × 15 minutes = 60 minutes) + (6 new instructors × 15 minutes administrative burden per instructor certification = 90 minutes) = 170 minutes/60 minutes = 3 burden hours].

Background: Section 4007(b) of the Motor Carrier Act of 1991 (Title IV of the Intermodal Surface Transportation Efficiency Act of 1991 (ISTEA), Public Law 102-240, 105 Stat. 1914, 2152; 49 U.S.C. 31307) required the Secretary of Transportation to establish Federal minimum training requirements for drivers of LCVs. The responsibility for implementing the statutory requirement was subsequently delegated to FMCSA (49 CFR 1.73). On March 30, 2004, the FMCSA, in a final rule entitled, “Minimum Training Requirements for Longer Combination Vehicle (LCV) Operators and LCV Driver-Instructor Requirements,” adopted implementing regulations for minimum training requirements for the operators of LCVs (69 FR 16722).

The 2004 final rule created an information collection burden concerning the certification of new, current and non-grandfathered LCV drivers, as well as the certification of LCV driver-instructors. The implementing regulations define an LCV as any combination of a truck-tractor and two or more semi-trailers or trailers, which operate on the National System of Interstate and Defense Highways (as defined in 23 CFR 470.107) with a gross vehicle weight greater than 80,000 pounds (49 CFR 380.105). The purpose of this rule is to enhance the safety of LCV operations on our nation's highways.

Drivers are required to present the training certificate to prospective employers to prove they are certified to drive LCVs. Motor carriers must not allow drivers to operate LCVs without ensuring the drivers have been properly trained in accordance with the requirements of 49 CFR part 380. Motor carriers must maintain a copy of the LCV training certification form in the driver qualification file (49 CFR 380.401(b)). Motor carriers must be able to show Federal or State enforcement officials that drivers responsible for operating such LCVs are certified to do so, based on the training certificate in the driver qualification file.

On June 28, 2007 (72 FR 35537), FMCSA published a Federal Register notice allowing for a 60-day comment period on the ICR. One comment was received. The commenter was a truck driver who pointed out that the skills of a truck driver are best learned by experience, not formal training. He also pointed out that the motor carrier is required to check the safety history of a new employee, and that such an analysis will be more helpful in evaluating the skill level of a driver than a certificate certifying participation in the requisite training. The commenter did not discuss the information collection aspects of the LCV rules.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: September 21, 2007.
Mary Powers-King,
Acting Associate Administrator for Research and Information Technology.

[FR Doc. E7-19016 Filed 9-25-07; 8:45 am]

BILLING CODE 4910-EX-P